NATIONAL TRANSPORTATION SAFETY BOARD

Sunshine Act Meeting

TIME AND DATE: 9:30 a.m. EDT, December 10, 2024.

PLACE: NTSB Conference Center, 429 L'Enfant Plaza SW, Washington, DC 20594.

STATUS: The one item is open to the public.

MATTER TO BE CONSIDERED:

73721 Pipeline Investigation Report—UGI Utilities Inc. Natural Gas Pipeline Explosion and Fire, West Reading, Pennsylvania, March 24, 2023

CONTACT PERSON FOR MORE INFORMATION: Candi Bing at (202) 590-8384 or by email at bingc@ntsb.gov.

Media Information Contact: Keith Holloway by email at keith.holloway@ntsb.gov or at (202) 314-6100.

The public may view it through a live or archived webcast by accessing a link under “Upcoming Events” on the NTSB home page at www.ntsb.gov.

Schedule updates, including weather-related cancellations, are also available at www.ntsb.gov.

The National Transportation Safety Board is holding this meeting under the Government in the Sunshine Act, 5 U.S.C. 552(b).

Dated: Friday, November 15, 2024.
Candi R. Bing,
Federal Register Liaison Officer.

[FR Doc. 2024-27524 Filed 11-20-24; 4:15 pm]

BILLING CODE 7533-01-P